DEPARTMENT OF STATE

[Delegation of Authority No. 550]

Classification Authority Acting Under the Direction of the Senior Agency Official

By virtue of the authority vested in me as the Senior Agency Official designated under section 5.4 of the Executive Order on Classified National Security Information (E.O. 13526), and by authority delegated to me by the Secretary of State pursuant to Delegation of Authority 514, dated April 20, 2021, I hereby authorize and direct the following individuals to classify or reclassify information consistent with the circumstances and procedures described in section 1.7(d) of E.O. 13526: the Assistant Secretary for Administration (A), the Deputy Assistant Secretary for Global Information Services (DAS for A/GIS) and the Director of the Office of Information Programs and Services (A/GIS/IPS). This authority delegated herein may be re-delegated, to the extent consistent with law. The Under Secretary for Management will approve (by Action Memo) any such re-delegation of authority.

As prescribed in section 1.7(d) of E.O. 13526, this authority shall be exercised on a document-by-document basis only as to information that has not been previously released to the public under proper authority, and only if such classification meets the requirements of E.O. 13526. The official exercising this authority shall do so under the policy direction of the Under Secretary for Management.

Any actions related to the functions described herein that may have been taken by the officials designated herein prior to the date of this delegation are hereby confirmed and ratified. Such actions shall remain in force as if taken under this delegation of authority, unless or until such actions are rescinded, amended, or superseded.

This delegation of authority supersedes Delegation of Authority 393, dated March 10, 2016. This document shall be published in the Federal Register.

Dated: July 12, 2023.
John R. Bass,
Under Secretary for Management, Department of State.

Editorial Note: This document was received for publication by the Office of the Federal Register on January 11, 2024.

[FR Doc. 2024-00825 Filed 1-17-24; 8:45 am]

BILLING CODE 4710-24-P